DEPARTMENT OF COMMERCE

Bureau of Export Administration

Action Affecting Export Privileges; Maria Del Rosario Cases Ames

Order Denying Export Privileges

On October 21, 1994, Maria Del Rosario Cases Ames (Ames) was convicted in the United States District Court for the Eastern District of Virginia of violating section 793(g) of the Espionage Act (18 U.S.C.A. 792-799 (1976 & Supp. 2000)). Specifically, Ames was convicted of unlawfully, knowingly, and willfully, combining, conspiring, confederating and agreeing with other persons, both known and unknown, including her husband Aldrich Hazen Ames, who had authorized possession of classified documents relating to the national defense of the United States, to communicate, deliver, and transmit to a foreign government, that is the U.S.S.R. and Russia, and to representatives, officers, and agents thereof, documents and writings relating to the national defense of the United States, knowing that the persons to whom these documents and writings were transmitted were not entitled to receive them.

Section 11(h) of the Export Administration Act of 1979, as amended (currently codified at 50 U.S.C.A. app. secs. 2401-2420 (1991 & Supp. 2000 and Pub. L. 106-508, November 13, 2000)) (the Act) ¹ provides that, at the discretion of the Secretary of Commerce,² no person convicted of violating the Espionage Act, or certain other provisions of the United States Code, shall be eligible to apply for or use any export license issued pursuant to, or provided by, the Act or the Export Administration Regulations (currently codified at 15 CFR parts 730-774 (2000), as amended (65 FR 14862, March 20, 2000)) (the Regulations), for a period of up to 10 years from the date of the conviction. In addition, any license issued pursuant to the Act in which such a person had any interest at the time of conviction may be revoked.

¹ During the time of Act's lapse, (August 20, 1994 through November 12, 2000) the President, through Executive Order 12924 (3 CFR, 1994 Comp. 917 (1995)), which had been extended by successive Presidential Notices, the most recent being that of August 3, 2000 (65 FR 48347, August 8, 2000), continued the Regulations in effect under the International Emergency Economic Powers Act (50 U.S.C.A. 1701-1706 (1991 & Supp. 2000)).

² Pursuant to appropriate delegations of authority that are reflected in the Regulations, the Director, Office of Exporter Services, in consultation with the Director, Office of Export Enforcement, exercises the authority granted to the Secretary of Section 11(h) of the Act.

Pursuant to §§ 766.25 and 750.8(a) of the regulations, upon notification that a person has been convicted of violating the Espionage Act, the Director, Office of Exporter Services, in consultation with the Director, Office of Export Enforcement, shall determine whether to deny that person's export privileges for a period of up to 10 years from the date of conviction and shall also determine whether to revoke any license previously issued to such a person.

Having received notice of Ames's conviction for violating the Espionage Act, and after providing notice and an opportunity for Ames to make a written submission to the Bureau of Export Administration before issuing an Order denying her export privileges, as provided in §766.25 of the regulations, I, following consultations with the Director, Office of Export Enforcement, have decided to deny Ames's export privileges for a period of eight years from the date of her conviction. The eight-year period ends on October 21, 2002. I have also decided to revoke all licenses issued pursuant to the Act in which Ames had an interest at the time of her conviction.

Accordingly, it is hereby Ordered:

I. Until October 21, 2002, Maria Del Rosario Cases Ames, Transversal 12 #125-51, Apartment 607, Bogota, Columbia, may not, directly or indirectly, participate in any way in any transaction involving any commodity, software or technology (hereinafter collectively referred to as “item”) exported or to be exported from the United States, that is subject to the Regulations, or in any other activity subject to the regulations, including, but not limited to:

A. Applying for, obtaining, or using any license, License Exception, or export control document;

B. Carrying on negotiations concerning, or ordering, buying, receiving, using, selling, delivering, storing, disposing of, forwarding, transporting, financing, or otherwise servicing in any way, any transaction involving any item exported or to be exported from the United States that is subject to the Regulations, or in any other activity subject to the regulations; or

C. Benefiting in any way from any transaction involving any item exported or to be exported from the United States that is subject to the Regulations, or any other activity subject to the regulations.

II. No person may, directly or indirectly, do any of the following:

A. Export or reexport to or on behalf of the denied person any item subject to the regulations;

B. Take any action that facilitates the acquisition or attempted acquisition by the denied person of the ownership, possession, or control of any item subject to the regulations that has been or will be exported from the United States, including financing or other support activities related to a transaction whereby the denied person acquires or attempts to acquire such ownership, possession or control;

C. Take any action to acquire from or to facilitate the acquisition or attempted acquisition from the denied person of any item subject to the regulations that has been exported from the United States;

D. Obtain from the denied person in the United States any item subject to the Regulations with knowledge or reason to know that the item will be, or is intended to be, exported from the United States; or

E. Engage in any transaction to service any item subject to the Regulations that has been or will be exported from the United States and which is owned, possessed or controlled by the denied person, or service any item, of whatever origin, that is owned, possessed or controlled by the denied person if such service involves the use of any item subject to the Regulations that has been or will be exported from the United States. For purposes of this paragraph, servicing means installation, maintenance, repair, modification or testing.

III. After notice and opportunity for comment as provided in § 766.23 of the Regulations, any person, firm, corporation, or business organization related to Ames by affiliation, ownership, control, or position of responsibility in the conduct of trade or related services may also be subject to the provisions of this Order.

IV. This Order does not prohibit any export, reexport, or other transaction subject to the Regulations where the only items involved that are subject to the Regulations are the foreign-produced direct product of U.S.-origin technology.

V. This Order is effective immediately and shall remain in effect until October 21, 2002.

VI. In accordance with Part 756 of the Regulations, Ames may file an appeal from this Order with the Under Secretary for Export Administration. The appeal must be filed within 45 days from the date of this Order and must comply with the provisions of Part 756 of the Regulations.

VII. A copy of this Order shall be delivered to Ames. This Order shall be published in the Federal Register.

Dated: January 26, 2001.
Eileen M. Albanese,
Director, Office of Exporter Services.

[FR Doc. 01-3915 Filed 2-15-01; 8:45 am]

BILLING CODE 3510-DT-M